DEPARTMENT OF ENERGY

Federal Energy Regulatory Commission

Combined Notice of Filings #1

October 17, 2008.

Take notice that the Commission received the following electric corporate filings:

Docket Numbers: EC09-5-000.

Applicants: Carr Street Generating Station, L.P., Bear Swamp Power Company LLC, Brookfield Energy Marketing Inc., Brookfield Energy Marketing U.S. LLC, Brookfield Power Piney & Deep Creek LLC, Brookfield Renewable Energy Marketing U.S. LLC, Erie Boulevard Hydropower, L.P., Great Lakes Hydro America, LLC, Hawks Nest Hydro LLC, Rumford Falls Hydro LLC, Brookfield Asset Management Inc., Great Lakes Holding Inc., Brookfield Renewable Power Holdings Inc., Brookfield Renewable Power, Inc.

Description: Application for authorization under Section 203 for indirect disposition of jurisdictional assets etc re Carr Street Generating Station, LP et al.

Filed Date: 10/14/2008.

Accession Number: 20081016-0050.

Comment Date: 5 p.m. Eastern Time on Tuesday, November 4, 2008.

Take notice that the Commission received the following exempt wholesale generator filings:

Docket Numbers: EG09-4-000.

Applicants: Red Hills Wind Project, L.L.C.

Description: Notice of Self-Certification of Exempt Wholesale Generator Status of Red Hills Wind Project, L.L.C.

Filed Date: 10/16/2008.

Accession Number: 20081016-5020.

Comment Date: 5 p.m. Eastern Time on Thursday, November 6, 2008.

Take notice that the Commission received the following electric rate filings:

Docket Numbers: ER08-1356-002.

Applicants: Maine Yankee Atomic Power Company.

Description: Maine Yankee Atomic Power Company submits Third Revised Rate Schedule FERC 1 effective 11/1/08.

Filed Date: 10/16/2008.

Accession Number: 20081016-0249.

Comment Date: 5 p.m. Eastern Time on Monday, October 27, 2008.

Docket Numbers: ER08-1371-00.2

Applicants: Southwest Power Pool, Inc.

Description: Southwest Power Pool, Inc. submits correction to its 8/22/08 filing with the clean and redlined 2nd Sub 3rd Revised Second Revised Sheet 221 etc.

Filed Date: 10/15/2008.

Accession Number: 20081016-0267.

Comment Date: 5 p.m. Eastern Time on Thursday, October 23, 2008.

Docket Numbers: ER09-48-000.

Applicants: Pacific Gas and Electric Company.

Description: Pacific Gas and Electric Co. submits generator interconnection service agreements with Global Ampersand, LLC etc.

Filed Date: 10/09/2008.

Accession Number: 20081015-0149.

Comment Date: 5 p.m. Eastern Time on Thursday, October 30, 2008.

Docket Numbers: ER09-49-000.

Applicants: Pacific Gas and Electric Company.

Description: Pacific Gas and Electric Co. submits revised generator interconnection service agreements with Lompoc Wind Project LLC.

Filed Date: 10/09/2008.

Accession Number: 20081015-0148.

Comment Date: 5 p.m. Eastern Time on Thursday, October 30, 2008.

Docket Numbers: ER09-62-000.

Applicants: Enel Stillwater, LLC.

Description: Enel Stillwater, LLC submits an application for order accepting market based rate tariff (FERC Electric Tariff, Original Volume 1), granting waivers and blanket authority.

Filed Date: 10/15/2008.

Accession Number: 20081016-0248.

Comment Date: 5 p.m. Eastern Time on Wednesday, November 5, 2008.

Docket Numbers: ER09-70-000.

Applicants: Niagara Mohawk Power Corporation.

Description: Niagara Mohawk Power Corp. submits a letter agreement with Orion Power New York.

Filed Date: 10/16/2008.

Accession Number: 20081016-0053.

Comment Date: 5 p.m. Eastern Time on Thursday, November 6, 2008.

Docket Numbers: ER09-72-000.

Applicants: Xcel Energy Services Inc.

Description: Order No. 890 OATT Filing re Xcel Energy.

Filed Date: 10/15/2008.

Accession Number: 20081015-5076.

Comment Date: 5 p.m. Eastern Time on Wednesday, November 05, 2008.

Docket Numbers: ER09-73-000.

Applicants: APS Energy Services Co., Inc.

Description: APS Energy Services Company, Inc. submits a Notice of Cancellation and canceled rate schedule sheet that terminates APSES's market-based rate tariff.

Filed Date: 10/15/2008.

Accession Number: 20081016-0241.

Comment Date: 5 p.m. Eastern Time on Wednesday, November 5, 2008.

Docket Numbers: ER09-74-000.

Applicants: PacifiCorp.

Description: PacifiCorp submits a Notice of Succession to inform the Commission that as a result of a transaction whereby PacifiCorp acquired Chehalis Power Generating, LLC and subsequently merged Chehalis etc.

Filed Date: 10/15/2008.

Accession Number: 20081016-0242.

Comment Date: 5 p.m. Eastern Time on Wednesday, November 5, 2008.

Docket Numbers: ER09-75-000.

Applicants: Pioneer Transmission, LLC.

Description: Pioneer Transmission LLC submits a request for acceptance of a formula rate and rate incentives for their investments in a major 765 kV transmission project that they intend to build in Indiana etc.

Filed Date: 10/15/2008.

Accession Number: 20081016-0243.

Comment Date: 5 p.m. Eastern Time on Wednesday, November 5, 2008.

Docket Numbers: ER09-76-000.

Applicants: Entergy Services, Inc.

Description: Entergy Services, Inc. submits an amended Interconnection and Operating Agreement between Bayou Cove Peaking Power, LLC and Entergy Gulf States Louisiana, LLC.

Filed Date: 10/15/2008.

Accession Number: 20081016-0236.

Comment Date: 5 p.m. Eastern Time on Wednesday, November 5, 2008.

Docket Numbers: ER09-77-000.

Applicants: Entergy Services, Inc.

Description: Entergy submits an amended Interconnection and Operating Agreement between Hot Spring Power Company, LLC and EAI.

Filed Date: 10/15/2008.

Accession Number: 20081016-0237.

Comment Date: 5 p.m. Eastern Time on Wednesday, November 5, 2008.

Docket Numbers: ER09-78-000.

Applicants: Entergy Services, Inc.

Description: Entergy submits an amended Interconnection and Operating Agreement between Acadia Power Partners, LLC.

Filed Date: 10/15/2008.

Accession Number: 20081016-0238.

Comment Date: 5 p.m. Eastern Time on Wednesday, November 5, 2008.

Docket Numbers: ER09-79-000.

Applicants: Southwest Power Pool, Inc.

Description: Southwest Power Pool, Inc. submits executed Meter Agent Services Agreement between Smoky Hills Wind Project II, LLC as the Market Participant and Westar Energy, Inc. as the Meter Agent.

Filed Date: 10/16/2008.

Accession Number: 20081016-0240.

Comment Date: 5 p.m. Eastern Time on Thursday, November 6, 2008.

Docket Numbers: ER09-80-000.

Applicants: New York Independent System Operator, Inc., New York State Electric & Gas Corporation.

Description: New York Independent System Operator Inc. et al. submits an executed amended and restated large generator interconnection agreement among the NYISO, NYSEG, and the Developer, Noble etc.

Filed Date: 10/15/2008.

Accession Number: 20081016-0239.

Comment Date: 5 p.m. Eastern Time on Wednesday, November 5, 2008.

Docket Numbers: ER09-81-000.

Applicants: El Paso Electric Company.

Description: Request for Waiver of Standards of Business Practices and Communication Protocols for Public Utilities (Order No. 676-C).

Filed Date: 10/15/2008.

Accession Number: 20081015-5130.

Comment Date: 5 p.m. Eastern Time on Wednesday, November 5, 2008.

Take notice that the Commission received the following electric securities filings:

Docket Numbers: ES09-1-000.

Applicants: Edison Sault Electric Company.

Description: Edison Sault Electric Co. submits an application for authority to issue securities pursuant to Section 204 of the Federal Power Act.

Filed Date: 10/01/2008.

Accession Number: 20081003-0110.

Comment Date: 5 p.m. Eastern Time on Wednesday, October 22, 2008.

Docket Numbers: ES09-4-000.

Applicants: Consolidated Edison Co. of New York, Inc.

Description: Application for order pursuant to Section 204 of the Federal Power Act authorizing the issue and sale of short-term debt of Consolidated Edison Co. of New York Inc.

Filed Date: 10/16/2008.

Accession Number: 20081016-5081.

Comment Date: 5 p.m. Eastern Time on Thursday, November 6, 2008.

Take notice that the Commission received the following open access transmission tariff filings:

Docket Numbers: OA08-26-001.

Applicants: Puget Sound Energy, Inc.

Description: Order No. 890 OATT Attachment K Compliance Filing of Puget Sound Energy, Inc.

Filed Date: 10/15/2008.

Accession Number: 20081015-5080.

Comment Date: 5 p.m. Eastern Time on Wednesday, November 5, 2008.

Docket Numbers: OA08-30-001.

Applicants: El Paso Electric Company.

Description: El Paso Electric Company submits Attachment K and Order No. 676-C Compliance Filings.

Filed Date: 10/15/2008.

Accession Number: 20081015-5131.

Comment Date: 5 p.m. Eastern Time on Wednesday, November 5, 2008.

Docket Numbers: OA08-33-001.

Applicants: Arizona Public Service Company.

Description: Arizona Public Service Company submits their compliance filing to reflect changes to Attachment E (Transmission Planning Process) of its Open Access Transmission Tariff, effective 12/7/07.

Filed Date: 10/15/2008.

Accession Number: 20081017-0044.

Comment Date: 5 p.m. Eastern Time on Wednesday, November 5, 2008.

Docket Numbers: OA08-35-002.

Applicants: Xcel Energy Services, Inc.

Description: Order No. 890 OATT Filing re Xcel Energy.

Filed Date: 10/15/2008.

Accession Number: 20081015-5076.

Comment Date: 5 p.m. Eastern Time on Wednesday, November 5, 2008.

Docket Numbers: OA08-38-002.

Applicants: Sierra Pacific Resources Operating Company.

Description: Order No. 890 OATT Attachment K—Transmission Planning Process compliance filing.

Filed Date: 10/15/2008.

Accession Number: 20081015-5132.

Comment Date: 5 p.m. Eastern Time on Wednesday, November 5, 2008.

Docket Numbers: OA08-51-001.

Applicants: Carolina Power & Light Company.

Description: Compliance Filing re rollover rights of Carolina Power & Light Company.

Filed Date: 10/15/2008.

Accession Number: 20081015-5077.

Comment Date: 5 p.m. Eastern Time on Wednesday, November 5, 2008.

Docket Numbers: OA09-6-000.

Applicants: WSPP, Inc.

Description: WSPP, Inc. submits revisions to their Open Access Transmission Tariff incorporating specific changes to the Order 890 pro forma OATT.

Filed Date: 10/06/2008.

Accession Number: 20081008-0133.

Comment Date: 5 p.m. Eastern Time on Monday, October 27, 2008.

Docket Numbers: OA09-8-000.

Applicants: Midwest Independent Transmission System.

Description: Midwest Independent Transmission System Operator, Inc. submits an informational filing re operational penalties.

Filed Date: 10/14/2008.

Accession Number: 20081016-0049.

Comment Date: 5 p.m. Eastern Time on Tuesday, November 4, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-25421 Filed 10-23-08; 8:45 am]

BILLING CODE 6717-01-P